TENNESSEE VALLEY AUTHORITY

Multiple Reservoir Land Management Plans

AGENCY: Tennessee Valley Authority.

ACTION: Issuance of Record of Decision.

SUMMARY: The Tennessee Valley Authority (TVA) has decided to adopt proposed reservoir land management plans (RLMPs) for the 138,321.4 acres of TVA-managed public land on eight reservoirs in Alabama, Kentucky, and Tennessee: Chickamauga, Fort Loudoun, Great Falls, Kentucky, Nickajack, Normandy, Wheeler and Wilson. TVA is also revising its Comprehensive Valleywide Land Plan (CVLP) to incorporate the information included in the eight RLMPs.

FOR FURTHER INFORMATION CONTACT: Kelly Baxter, Land Planning Specialist, Natural Resources, Tennessee Valley Authority, 400 West Summit Hill Drive, WT-11D, Knoxville, Tennessee 37902-1499; telephone (865) 632-2444; or email krbaxter@tva.gov.

SUPPLEMENTARY INFORMATION: This notice is provided in accordance with the Council on Environmental Quality's regulations (40 CFR parts 1500 to 1508) and TVA's procedures for implementing the National Environmental Policy Act. TVA manages public lands to protect the integrated operation of TVA reservoir and power systems, to provide for appropriate public use and enjoyment of the reservoir system, and to provide for continuing economic growth in the Tennessee Valley region. Shortly after its creation in 1933, TVA began a dam and reservoir construction program that required the purchase of approximately 1.3 million acres of land for the creation of 46 reservoirs within the Tennessee Valley region. Most of these lands are now located underneath the water of the reservoir system or have since been sold by TVA or transferred to other state or federal agencies. Today, approximately 293,000 acres of land along TVA reservoirs are managed by TVA for the benefit of the public.

Reservoir land planning is a systematic method of identifying and evaluating the most suitable uses of reservoir lands under TVA stewardship and RLMPs guide future decision-making and the management of reservoir lands in a manner consistent with TVA policies. The updated RLMPs are needed to consider changes to land uses over time, to make land planning decisions on these eight reservoirs consistent with the TVA Land Policy and the CVLP, and to incorporate TVA's goals for managing natural resources on public lands.

On July 21, 2017, TVA issued a Final Environmental Impact Statement (EIS) that considered the eight proposed RLMPs and the associated changes to the CVLP land use allocation target ranges. The eight RLMPs reviewed in the Final EIS address management of approximately 138,221 acres of TVA-managed public lands surrounding Chickamauga, Fort Loudoun, Great Falls, Kentucky, Nickajack, Normandy, Wheeler, and Wilson Reservoirs.

On August 23, 2017, the TVA Board of Directors (TVA Board) approved the Multiple RLMPs and updates to the CVLP, implementing the preferred alternative (Proposed Land Use Alternative) identified in the Final EIS. Under the RLMPs adopted by the TVA Board, TVA-managed land on the eight reservoirs has been allocated into broad land use categories or “zones”, including Project Operations (Zone 2), Sensitive Resource Management (Zone 3), Natural Resource Conservation (Zone 4), Industrial (Zone 5), Developed Recreation (Zone 6) and Shoreline Access (Zone 7). These allocations guide the types of activities that will be considered on each parcel of land in the future. Non-TVA Shoreland (Zone 1) is applied to reservoir lands where TVA has land rights such as flowage easements. In the Final EIS, TVA considered potential environmental impacts of the eight RLMPs and the land use allocations of reservoir parcels.

In proposing the land use zones, TVA considered previous land use allocations and current land uses, existing land rights (easements, leases, etc.), public needs, the presence of sensitive environmental resources, and TVA policies and guidelines, including the TVA Land Policy and Shoreline Management Policy. Of the eight reservoirs, seven have land use plans that were developed using different methodology and land use categories. Two reservoirs (Fort Loudoun and Normandy) were planned using TVA's Forecast System in the 1960s or 1970s; four reservoirs (Chickamauga, Kentucky, Nickajack, and Wheeler) were planned in the 1980s and 1990s under the Multiple Use Tract Allocation methodology. A land plan has never been developed for Great Falls Reservoir, and only a portion of Wilson Reservoir has been planned previously. Further, previous land planning methodologies did not assign land use designations to all TVA-managed land on the reservoir. In developing the eight RLMPs, TVA applied the Single Use Parcel Allocation methodology which allocates all TVA reservoir land to the seven allocation land use zones identified above. With the approval of these RLMPs, all TVA land plans are now based on the same allocation methodology, ensuring that future management policies can be consistently applied across the Tennessee Valley region, as intended under TVA's 2011 Natural Resource Plan.

In its Natural Resource Plan, TVA established the CVLP to guide allowable uses of TVA-managed properties on 46 reservoirs. The CVLP identifies target ranges for the different types of land use zone allocations for TVA reservoir lands in the Tennessee Valley region and helps TVA to balance competing land use demands. When establishing the CVLP target ranges for the land use zones in 2011, TVA based the ranges on parcel allocation conversions from existing plans as well as “rapid lands assessments,” which were initial allocation designations of reservoir parcels conducted in order to establish an initial CVLP target range. Since 2011, TVA has conducted thorough, systematic assessments of parcels on the eight reservoirs and found in many cases that the initial allocation estimates did not accurately reflect actual land uses on parcels, the presence of sensitive resources, or existing land rights or restrictions for parcels. TVA incorporated these allocation corrections into the proposed RLMPs, which resulted in the need to make minor revisions to the CVLP target ranges. Thus, as part of this planning effort, TVA considered changes to the CVLP target ranges according to the zone allocations identified in the RLMPs. No other decisions in the Natural Resource Plan were revised during this planning effort.

Alternatives Considered

In the Final EIS, TVA considered the Proposed Land Use Plan Alternative and the No Action Alternative for managing 1,396 parcels of public land, comprising 138,221.4 acres, under its management around the eight reservoirs. Under both alternatives, TVA would continue to conduct environmental reviews to consider potential site- and project-specific impacts prior to the approval of any proposed development or activity on any parcel. About 56 percent of reservoir lands (76,880 acres) had previous commitments specified in land use agreements (e.g., easements, leases, etc.) or existing plans. No changes to committed lands were proposed under either alternative.

Because of the differences with past and present land planning methodologies, it was necessary to convert the land use designations to one of the seven land use zones to represent the No Action Alternative to facilitate the comparison of the two alternatives. Designations from existing RLMPs and the Forecast System and the committed land that was not assigned a land use designation on all reservoirs were converted to the equivalent land use zone. The conversions are estimates of the appropriate zone allocation based on best available information at that time.

Under the No Action Alternative, TVA would not implement new RLMPs for the eight reservoirs and would continue to rely on previous land planning decisions or current management of parcels. TVA would continue to manage TVA land on Fort Loudoun and Normandy reservoirs as designated under the Forecast System and would continue to manage lands on Chickamauga, Kentucky, Nickajack, and Wheeler reservoirs in accordance with existing RLMPs for those reservoirs. Lands on Great Falls and portions of Wilson were not previously planned and, therefore, would be subject to management in accordance with existing commitments and land use agreements as well as applicable TVA policies. Reservoir lands would not be managed according to TVA's current land use planning zones and would not be in complete alignment with current TVA policies. The target allocation ranges of the CVLP identified in TVA's Natural Resource Plan would not be revised.

Under the Proposed Land Use Plan Alternative, TVA would implement the eight RLMPs detailed in the Final EIS to guide future management on these reservoirs. The TVA managed land would be allocated to land use zones according to current land usage, existing land rights, existing land use agreements, existing and newly collected data, public needs, the presence of sensitive resources, and TVA policies. Generally, land allocations in the eight RLMPs reflect actual uses of parcels, the presence of known sensitive resources, or existing land rights or restrictions for parcels. As such, the changes in allocations are minor.

The approved RLMPs result in changes of zone allocations to 25,558 acres of land, roughly 18 percent of the 138,321.4 acres of TVA-managed reservoir lands (approximately 7 percent of the allocations were made to reflect existing land use agreements and commitments and approximately 11 percent were made for other reasons). Under the eight RLMPs, the total number of acres of TVA lands allocated to Sensitive Resource Management (Zone 3) and Natural Resource Conservation (Zone 4) is slightly lower than previous allocations; the RLMPs reduce Zone 3 lands by 2,289.8 acres and Zone 4 lands by 3,300.3 acres. In turn, the amount of land allocated for Project Operations (Zone 2), Industrial (Zone 5), Developed Recreation (Zone 6), and Shoreline Access (Zone 7) is slightly higher under the RLMPs; an additional 1,622.1 acres are allocated for Zone 2, 1,303.3 acres for Zone 5, 1,644.0 acres for Zone 6, and 1,090.1 acres for Zone 7.

Because of new allocations in the RLMPs, the target allocation ranges of the CVLP are revised under the Proposed Land Use Plan Alternative as follows: The range for Project Operations (Zone 2) is raised from 5 to 7 percent (current) to 7 to 10 percent; Sensitive Resource Management (Zone 3) is adjusted from 16 to 18 percent to 14 to 18 percent; Natural Resource Conservation (Zone 4) is reduced from 58 to 65 percent to 56 to 63 percent; Industrial (Zone 5), is adjusted from 1 to 2 percent to 1 to 3 percent; and Shoreline Access (Zone 7) is adjusted from 5 percent to 5 to 6 percent. There are no changes to the allocation range for Developed Recreation (Zone 6).

Environmental Consequences

In the Final EIS, TVA found that under the No Action Alternative, the total number of acres of TVA land on the eight reservoirs that would be equivalently designated to Project Operations (Zone 2), Industrial (Zone 5) and Developed Recreation (Zone 6) is less than under the Proposed Land Use Alternative. However, proposed land use allocations under the Proposed Land Use Alternative primarily reflect the existing conditions and suitable uses of land and as such, the actual on-the-ground difference between the two alternatives is minor. No significant direct, indirect, or cumulative effects are expected to occur to any resource under either alternative. Under both alternatives, TVA would conduct site-specific environmental reviews of proposed projects on reservoir lands to identify potential impacts to resources, including sensitive resources such as species federally listed as endangered or threatened, cultural resources and wetlands.

In contrast to the No Action Alternative, the Proposed Land Use Alternative was developed using a systematic and comprehensive planning approach to the management, retention, and disposal of reservoir lands managed by TVA. It brings consistency to the land planning process across the eight reservoirs that enables TVA to identify the most suitable use of TVA public lands in furtherance of TVA's responsibilities under the TVA Act. The Proposed Land Use Plan Alternative, then, would result in the benefits of comprehensive land planning across the entire range of lands associated with the eight reservoirs.

Environmentally Preferable Alternative

The Proposed Land Use Plan Alternative, approved by the TVA Board, is the environmentally preferable alternative because the land use allocations under this alternative are the result of thorough research and implementation of TVA's land planning process. This alternative best reflects existing uses and conditions of TVA-managed land and the proposed land use allocations would result in the widest range of beneficial uses without degrading the environment or other undesirable and unintended consequences.

Public Involvement

TVA published a Notice of Intent to prepare the EIS in the Federal Register on March 3, 2016. TVA sought input from Federal and state agencies, Federally recognized Indian tribes, local organizations and individuals during a 30-day public scoping period. The most common concerns raised during the scoping period were related to recreation use on Normandy Reservoir parcels (e.g., horseback riding, campground management). Numerous individuals requested information regarding TVA parcels, provided recommendations to TVA on how specific parcels should be managed, or raised general concerns regarding how TVA should manage the public lands. In July 2016, TVA published a Scoping Report that detailed the outreach and input during this period.

The Notice of Availability of the Draft EIS was published in the Federal Register on December 2, 2016. TVA held public meetings on the Draft EIS in January 2017 in Knoxville, Chattanooga, Manchester, and Paris, Tennessee, and in Muscle Shoals, Alabama, and accepted comments until January 31, 2017.

TVA received 44 comment submissions on the Draft EIS and provided responses in the Final EIS. Most comments pertained to the proposed land use allocations of specific parcels of TVA land. In response to numerous substantive comments, TVA made revisions and corrections to the EIS. After considering the public's feedback on the Draft EIS and further internal deliberation, TVA made minor modifications to its Proposed Land Use Plan Alternative. The land use allocations were changed for 4 parcels and parcel boundaries were changed for 41 parcels. Allocation and/or acreage changes were made to reflect new information or changes in land use agreements or changes in back-lying property ownership, to correct errors or omissions, or in response to public comments.

The NOA for the Final EIS was published in the Federal Register on July 21, 2017. In the Final EIS, TVA identified the Proposed Land Use Plan Alternative as its preference. Prior to its August 23, 2017 meeting, the TVA Board provided opportunity to the public to comment on the RLMPs and CVLP revision. No comments were received.

Decision

On August 23, 2017, the TVA Board approved the eight RLMPs and the revision of the CVLP, thereby adopting the Proposed Land Use Plan Alternative of the Final EIS. TVA believes the implementation of this plan provides suitable opportunities for balancing competing land use demands for natural and sensitive resource conservation while providing public lands for recreational enjoyment as well as supporting recreation and economic development goals. This decision incorporates mitigation measures that would minimize the potential for adverse impacts to the environment.

Mitigation Measures

Because this is a programmatic review, specific measures to reduce potential environmental impacts on a site-specific level were not identified. Prior to approving any use of land on the eight reservoirs, TVA would conduct an appropriate level of site-specific environmental review to determine the potential environmental effects of the proposed use. TVA's review process for potential actions on these lands is designed to identify ways to avoid and/or minimize potential adverse environmental impacts. Based on the findings of any site-specific environmental review, TVA may require the implementation of appropriate mitigation measures, including best management practices, as conditions of approval for land use on the TVA-managed lands.

When considering future development of reservoir lands, TVA would also comply with other applicable environmental requirements, including the Endangered Species Act, Clean Water Act, Clean Air Act, and applicable Executive Orders, and ensure that proper agency coordination and permitting requirements are met. In addition, all activities will be conducted in accordance with the stipulations defined in the programmatic agreement (PA) between TVA and the State Historic Preservation Officers (SHPO) of Alabama, Kentucky, and Tennessee, the Advisory Council of Historic Preservation, and federally recognized Indian tribes, that was established for implementation of the Natural Resources Plan in 2011. Under the agreement, TVA will consult with the appropriate SHPO and consulting parties when reviewing plans submitted to TVA.

David Bowling,
Vice President, Land and River Management.

[FR Doc. 2017-19310 Filed 9-11-17; 8:45 am]

BILLING CODE 8120-08-P